DEPARTMENT OF DEFENSE

Department of the Army

[Docket ID: USA-2014-0043]

Proposed Collection; Comment Request

AGENCY: Army & Air Force Exchange Service (Exchange), DoD.

ACTION: Notice.

SUMMARY: In compliance with the Paperwork Reduction Act of 1995, the Exchange announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 6, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army and Air Force Exchange Service, Office of the General Counsel, Compliance Division, Attn: Teresa Schreurs, 3911 South Walton Walker Blvd., Dallas, TX 75236-1598 or call the Exchange Compliance Division at 800-967-6067.

SUPPLEMENTARY INFORMATION: Title; Associated Form; and OMB Number: Exchange Catalog System; Exchange Form 4150-120 (“Exchange Catalog On-Line”), Exchange Form 6800-018(M) (“Exchange Catalog Sales”), Exchange Form 6450-002 (“Military Star Card Application”); OMB Control Number 0702-XXXX.

Needs and Uses: The information collection requirement is necessary to record customer transactions/payments for layaways and catalog orders; to determine payment status before finalizing transactions; and to verify shipping and receipt of merchandise ordered through the Exchange catalog. The system may also work hand in hand with other Exchange Customer data-bases and on-line customer experiences for improvement in the efficiency and effectiveness of the Exchange's marketing programs, to settle customer complaints, and to fulfill the Exchange's mission and enhance the military community by providing world-wide merchandise and household goods to Exchange eligible patrons.

Affected Public: Individuals or Households.

Annual Burden Hours: 419,866.

Number of Respondents: 12,595,968.

Responses per Respondent: 1.

Average Burden per Response: 2 minutes.

Frequency: On Occasion.

Authorized customers of the Army and Air Force Exchange Service information, who provide information relative to any Exchange order or inquiry through an Exchange Catalog or On-Line shopping experience. The Exchange collects information electronically or provided by customers via paper forms completed by the customer or by phone, which allows the Exchange to contact the customer for special events, sales, address customer complaints as well as provide information about shopping at the Exchange. The information provides valuable data to the Exchange, which is used to enhance operations and improve efficiencies of the Exchange marketing program, and to generally enrich the customers' experience. If the Exchange does not receive the data, the Exchange efforts to improve the shopping experience would not be as effective, efficient or useful. Customer information is vital to the efficient and effective maintenance and improvement of Exchange operations.

Dated: December 3, 2014.
Aaron Siegel,
Alternate OSD Federal Register Liaison Officer, Department of Defense.

[FR Doc. 2014-28659 Filed 12-5-14; 8:45 am]

BILLING CODE 5001-06-P